DEPARTMENT OF COMMERCE

International Trade Administration

[A-570-028]

Hydrofluorocarbon Blends From the People's Republic of China: Preliminary Results of Antidumping Duty Administrative Review and Final Rescission, in Part; 2017-2018

AGENCY: Enforcement and Compliance, International Trade Administration, United States Department of Commerce.

SUMMARY: On October 4, 2018, the Department of Commerce (Commerce) initiated an administrative review of the antidumping duty order on hydrofluorocarbon blends (HFCs) from the People's Republic of China (China) for 13 companies. Based on timely withdrawal of requests for review, we are now rescinding this administrative review with respect to 12 of these companies.

DATES: Applicable June 14, 2019.

FOR FURTHER INFORMATION CONTACT: Andrew Medley or Manuel Rey, AD/CVD Operations, Office II, Enforcement and Compliance, International Trade Administration, U.S. Department of Commerce, 1401 Constitution Avenue NW, Washington, DC 20230; telephone: (202) 482-4987 or (202) 482-5518, respectively.

Background

In August 2018, Commerce received timely requests to conduct an administrative review of the antidumping duty order on HFCs from China from Weitron International Refrigeration Equipment (Kushan) Co., Ltd. (Weitron) and the petitioners.¹ Based upon these requests, on October 4, 2018, in accordance with section 751(a) of the Tariff Act of 1930, as amended (the Act), Commerce published a notice of initiation of an administrative review covering the period of review (POR) August 1, 2017 through July 31, 2018, with respect to 13 companies.² On February 11, 2019, the petitioners withdrew their requests for an administrative review.³ Weitron did not withdraw its request for an administrative review.

¹ The petitioners in this case are the American HFC Coalition and its individual members and District Lodge 154 of the International Association of Machinists and Aerospace Workers.

² See Initiation of Antidumping and Countervailing Duty Administrative Reviews, 83 FR 50077 (October 4, 2018). See also Initiation of Antidumping and Countervailing Duty Administrative Reviews, 83 FR 57411 (November 15, 2018), correcting the spelling of three company names.

³ See Petitioner's Letter, “Hydrofluorocarbon Blends from the People's Republic of China: Withdrawal of Review Request,” dated February 11, 2019.

Commerce exercised its discretion to toll all deadlines affected by the partial federal government closure from December 22, 2018 through the resumption of operations on January 29, 2019.⁴ Accordingly, the revised deadline for the issuance of these preliminary results is now June 12, 2019.

⁴ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Partial Rescission

Pursuant to 19 CFR 351.213(d)(1), Commerce will rescind an administrative review, in whole or in part, if a party who requested the review withdraws the request within 90 days of the date of publication of notice of initiation of the requested review. The aforementioned withdrawal request by the petitioners was timely submitted, and no other interested party requested an administrative review of these particular companies. Therefore, in accordance with 19 CFR 351.213(d)(1), we are rescinding this review of the antidumping duty order on HFCs from China, in part, with respect to the 12 companies named in the appendix.

The instant review will continue with respect to Weitron.

Preliminary Determination of No Shipments

We received timely submissions from Weitron certifying that it did not have sales, shipments, exports, or entries of subject merchandise to the United States during the POR.⁵ On April 11, 2019, we requested U.S. Customs and Border Protection (CBP) data to confirm any entries of subject merchandise imported into the United States during the POR and exported by Weitron. This query returned no entries during the POR.⁶ Additionally, in order to examine Weitron's claim, we sent an inquiry to CBP requesting that any CBP officer alert Commerce if he/she had information contrary to this no-shipments claim.⁷ On April 12, 2019, we received notification from CBP of no information contrary to the no shipment claims.⁸

⁵ See letter from Weitron, “No Shipment Certification and Separate Rate Application for Weitron: Antidumping Duty Administrative Review of Hydrofluorocarbon Blends from the People's Republic of China,” dated November 7, 2018, at 1. Because Weitron certified that it did not have sales, shipments, exports, or entries of subject merchandise during the POR, and given that a suspended entry is required to evaluate a company's separate rate claim, we have not evaluated Weitron's separate rate application for the purposes of this review.

⁶ See Memorandum, “No shipments inquiry for hydrofluorocarbon blends from the People's Republic of China exported by Weitron International Refrigeration Equipment (Kunshan) Co., Ltd. (A-570-028),” dated April 11, 2019.

⁷ Id.

⁸ See Memorandum, “Re: No shipment inquiry with respect to the company below during the period 08/01/2017 through 7/31/2018,” dated May 24, 2019.

Because we have not received information to the contrary from CBP, consistent with our practice, we preliminarily determine that Weitron had no shipments of subject merchandise. In addition, as discussed below, we find it is not appropriate to rescind the review with respect to Weitron but, rather, to complete the review with respect to it and issue appropriate instructions to CBP based on the final results of the review, consistent with our practice in non-market economy (NME) cases.⁹

⁹ See the “Assessment” section, below.

Public Comment

Interested parties may submit case briefs no later than 30 days after the date of publication of this notice in the Federal Register.¹⁰ Rebuttals to case briefs, which must be limited to issues raised in the case briefs, must be filed within five days after the date for filing case briefs.¹¹ Parties who submit arguments are requested to submit with each argument (a) a statement of the issue, (b) a brief summary of the argument, and (c) a table of authorities.¹² Parties submitting briefs should do so pursuant to Commerce's electronic filing system: Enforcement and Compliance's Antidumping and Countervailing Duty Centralized Electronic Service System (ACCESS).¹³ ACCESS is available to registered users at https://access.trade.gov, and is available to all parties in the Central Records Unit, Room B8024 of the main Department of Commerce building.

¹⁰ See 19 CFR 351.309(c)(1)(ii).

¹¹ See 19 CFR 351.309(d)(1)(2).

¹² See 19 CFR 351.309(c)(2), (d)(2).

¹³ See 19 CFR 351.303 (for general filing requirements).

Pursuant to 19 CFR 351.310(c), interested parties who wish to request a hearing must submit a written request to the Assistant Secretary for Enforcement and Compliance, U.S. Department of Commerce within 30 days of the date of publication of this notice. Hearing requests should contain the following information: (1) The party's name, address, and telephone number; (2) the number of participants; and (3) a list of the issues parties intend to discuss. Issues raised in the hearing will be limited to those raised in the respective case and rebuttal briefs. If a request for a hearing is made, parties will be notified of the time and date of the hearing which will be held at the U.S. Department of Commerce, 1401 Constitution Avenue NW, Washington, DC 20230.

Unless extended, we intend to issue the final results of this administrative review, including our analysis of all issues raised in any written brief, within 120 days of publication of this notice in the Federal Register, pursuant to section 751(a)(3)(A) of the Act.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). For those companies, Commerce intends to issue assessment instructions to CBP 15 days after publication of this notice.

Pursuant to Commerce's practice in NME cases, if Commerce continues to determine in the final results that Weitron had no shipments of subject merchandise, any suspended entries during the POR from Weitron will be liquidated at the China-wide rate.¹⁴ We intend to issue assessment instructions for Weitron 15 days after the publication date of the final results of this review.¹⁵

¹⁴ For a full discussion of this practice, see Non-Market Economy Antidumping Proceedings: Assessment of Antidumping Duties, 76 FR 65694 (October 24, 2011).

¹⁵ See 19 CFR 351.212(b)(1).

Cash Deposit Requirements

The following cash deposit requirements will be effective upon publication of the final results of this administrative review for all shipments of the subject merchandise entered, or withdrawn from warehouse, for consumption on or after the publication date, as provided for by section 751(a)(2)(C) of the Act: (1) For previously investigated or reviewed Chinese and non-Chinese exporters who are not under review in this segment of the proceeding but who have separate rates, the cash deposit rate will continue to be the exporter-specific rate published for the most recent period; (2) for all Chinese exporters of subject merchandise that have not been found to be entitled to a separate rate, the cash deposit rate will be the China-wide rate of 216.37 percent (i.e., including Weitron, which did not demonstrate that it was entitled to a separate rate in the most recently completed administrative review); ¹⁶ and (3) for all non-Chinese exporters of subject merchandise which have not received their own rate, the cash deposit rate will be the rate applicable to Chinese exporter(s) that supplied that non-Chinese exporter. These deposit requirements, when imposed, shall remain in effect until further notice.

¹⁶ See Hydrofluorocarbon Blends from the People's Republic of China: Final Results of the Antidumping Duty Administrative Review and Final Determination of No Shipments; 2016-2017, 84 FR 17380, 17381 (April 25, 2019).

Notification to Importers

This notice serves as a preliminary reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

Notification to Interested Parties

This notice is issued and published in accordance with sections 751 and 777(i)(1) of the Act, and 19 CFR 351.213(d)(4).

Dated: June 11, 2019.
Jeffrey I. Kessler,
Assistant Secretary for Enforcement and Compliance.

Appendix

Companies for Which the Administrative Review Is Rescinded

Arkema Daikin Advanced Fluorochemicals (Changsu) Co., Ltd.

Daikin Fluorochemicals (China) Co., Ltd.

Dongyang Weihua Refrigerants Co., Ltd.

Jinhua Yonghe Fluorochemical Co., Ltd.

Shandong Huaan New Material Co., Ltd.

Sinochem Environmental Protection Chemicals (Taicang) Co., Ltd.

T.T. International Co., Ltd.

Zhejiang Lantian Environmental Protection Fluoro Material Co. Ltd.

Zhejiang Quzhou Lianzhou Refrigerants Co., Ltd.

Zhejiang Sanmei Chemical Industry Co., Ltd.

Zhejiang Yonghe Refrigerant Co., Ltd.

Zhejiang Zhonglan Refrigeration Technology Co., Ltd.

[FR Doc. 2019-12618 Filed 6-13-19; 8:45 am]

BILLING CODE 3510-DS-P